DEPARTMENT OF DEFENSE

Department of the Navy

Notice of Intent To Grant Exclusive Patent License; SSC Development, LLC

AGENCY: Department of the Navy, DoD.

ACTION: Notice.

SUMMARY: The Department of the Navy hereby gives notice of its intent to grant to SSC Development, LLC, a revocable, nonassignable, exclusive license in the United States to practice the Government-owned invention(s) described in U.S. Patent No. 6,466,515 entitled, “Power-Efficient Sonar System Employing a Waveform and Processing Method for Improved Range Resolution at High Doppler Sensitivity,” issue date October 15, 2002.

DATES: Anyone wishing to object to the grant of this license must file written objections along with supporting evidence, if any, not later than July 5, 2006.

ADDRESSES: Written objections are to be filed with the Office of Research and Technology Applications, Space and Naval Warfare Systems Center, Code 2112, 83570 Silvergate Ave., Room 2306, San Diego, CA 92152-5048.

FOR FURTHER INFORMATION CONTACT: Dr. Stephen H. Lieberman, Office of Research and Technology Applications, Space and Naval Warfare Systems Center, Code 2112, 83570 Silvergate Ave., Room 2306, San Diego, CA 92152-5048, telephone 619-553-2778, or e-Mail stephen.lieberman@navy.mil.

(Authority: 35 U.S.C. 207, 37 CFR part 404.)

Dated: June 7, 2006.
M.A. Harvison,
Lieutenant Commander, Judge Advocate General's Corps, U.S. Navy, Federal Register Liaison Officer.

[FR Doc. E6-9649 Filed 6-19-06; 8:45 am]

BILLING CODE 3810-FF-P